DEPARTMENT OF TRANSPORTATION

Federal Aviation Administration

14 CFR Part 39

[Docket No. FAA-2013-0943; Directorate Identifier 2013-SW-001-AD; Amendment 39-17836; AD 2014-09-01]

RIN 2120-AA64

Airworthiness Directives; AgustaWestland S.p.A. (Type Certificate Previously Held by Agusta S.p.A.) (Agusta) Helicopters

AGENCY: Federal Aviation Administration (FAA), DOT.

ACTION: Final rule.

SUMMARY: We are adopting a new airworthiness directive (AD) for Agusta Model A109C, A109E, A109K2, and A119 helicopters. This AD requires a recurring visual inspection of the tail rotor (T/R) blade retaining bolts (bolts) for a crack, corrosion, damage, or missing cadmium plating in the central part of the bolt and, depending on findings, a liquid penetrant inspection. This AD also requires replacing a cracked or damaged bolt. This AD was prompted by two reported incidents of cracked bolts. The actions of this AD are intended to detect an unairworthy bolt and prevent failure of a bolt, release of a T/R blade, and subsequent loss of control of the helicopter.

DATES: This AD is effective June 5, 2014.

The Director of the Federal Register approved the incorporation by reference of certain documents listed in this AD as of June 5, 2014.

ADDRESSES: For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Discussion

On November 20, 2013, at 78 FR 69595, the Federal Register published our notice of proposed rulemaking (NPRM), which proposed to amend 14 CFR part 39 by adding an AD that would apply to certain Agusta Model A109C, A109E, A109K2, and A119 helicopters. The NPRM proposed to require a recurring visual inspection of each bolt, part number (P/N) 109-8131-09-1, for a crack, corrosion, a nick, other damage, or missing cadmium plating in the central part of the bolt. If a crack is not detected by the visual inspection, the NPRM proposed to require a liquid penetrant inspection. If there is a crack, corrosion, damage, or missing cadmium plating in the central part of the bolt, the NPRM proposed to require replacing the bolt before further flight. The NPRM also proposed to prohibit installing certain bolts on any helicopter unless it has passed the proposed inspections. The proposed requirements were intended to detect an unairworthy bolt and prevent failure of a bolt, release of a T/R blade, and subsequent loss of control of the helicopter.

The NPRM was prompted by AD No. 2013-0009, dated January 11, 2013, issued by EASA, which is the Technical Agent for the Member States of the European Union, to correct an unsafe condition for Agusta Model A109C, A109K2, A109E, and A119 helicopters, all serial numbers. EASA advises that cracks were reported in bolts, P/N 109-8131-09-1, installed on a Model A109K2 and a Model A109E helicopter. EASA further states that investigations conducted by Agusta revealed the cracks were in the same area of the bolts and corresponded with corrosion pits. EASA specified that this condition, if not detected and corrected, could cause damage to, or loss of, a T/R blade, possibly resulting in loss of control of the helicopter.

Comments

We gave the public the opportunity to participate in developing this AD, but we did not receive any comments on the NPRM (78 FR 69595, November 20, 2013).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed.

Interim Action

We consider this AD to be an interim action. If final action is later identified, we might consider additional rulemaking.

Related Service Information

AgustaWestland issued Bollettino Tecnico (BT) No. 109-135 for Model A109C helicopters, BT No. 109EP-125 for Model A109E helicopters, BT No. 109K-55 for Model A109K2 helicopters, and BT No. 119-052 for Model A119 helicopters. All of the BTs are dated December 19, 2012. The BTs specify to perform a visual inspection of bolt, P/N 109-8131-09-1, in accordance with the maintenance manual applicable to the model helicopter for condition, corrosion, and nicks. The BTs specify replacement of the bolt if there is any damage, even if minor, or if there is missing cadmium plating in the central part of the bolt. The BTs state that if a crack is not revealed from the visual inspection, then to perform a liquid penetrant inspection. The BTs further specify repeating the visual inspection of the bolts at intervals specific to the model helicopter. The BTs state the results of the inspections must be communicated to AgustaWestland.

Costs of Compliance

We estimate this AD affects 132 helicopters of U.S. Registry. We estimate that operators may incur the following costs in order to comply with this AD. We estimate it will take 2 work-hours to perform the initial visual and liquid penetrant inspections and 1 work-hour to perform each recurring visual inspection at an average labor cost of $85 per work-hour. Based on these figures, it will cost about $170 to perform the initial inspections and about $85 to perform each recurring visual inspection. A replacement bolt will cost approximately $1,067; no additional labor cost is expected for replacement.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-09-01 AgustWestland S.p.A. (Type Certificate Previously Held by Agusta S.p.A) (Agusta) Helicopters: Amendment 39-17836; Docket No. FAA-2013-0943; Directorate Identifier 2013-SW-001-AD.

(a) Applicability

This AD applies to Agusta Model A109C, A109E, A109K2, and A119 helicopters with a tail rotor blade retaining bolt (bolt), part number 109-8131-09-1, installed, certificated in any category.

(b) Unsafe Condition

This AD defines the unsafe condition as a crack in a bolt. This condition could result in failure of a bolt, release of a tail rotor blade, and subsequent loss of control of the helicopter.

(c) Effective Date

This AD becomes effective June 5, 2014.

(d) Compliance

You are responsible for performing each action required by this AD within the specified compliance time unless it has already been accomplished prior to that time.

(e) Required Actions

For each bolt with less than 400 hours time-in-service (TIS), before exceeding 500 hours TIS on the bolt, and for each bolt with 400 or more hours TIS, before accumulating an additional 100 hours TIS or 2 months on the bolt, whichever occurs first:

(1) Visually inspect each bolt for a crack, damage, corrosion, a nick, or missing cadmium plating in the central part of the bolt.

(i) If there is a crack, corrosion, a nick, any other damage, or missing cadmium plating in the central part of the bolt, before further flight, replace the bolt with an airworthy bolt.

(ii) If there is not a crack as a result of the initial visual inspection as required by paragraph (e)(1) of this AD, liquid-penetrant inspect the bolt in accordance with Annex A of AgustaWestland Bollettino Tecnico (BT) No. 109-135, BT No. 109EP-125, BT No. 109K-55, or BT No. 119-052, all dated December 19, 2012, as applicable to your model helicopter. If there is a crack, before further flight, replace the bolt with an airworthy bolt.

(2) Thereafter, for Agusta Model A109C helicopters, repeat the required actions of paragraph (e)(1) of this AD at intervals not to exceed 300 additional hours TIS or 6 months, whichever occurs first. For Agusta Model A109E, A109K2, and A119 helicopters, repeat the required actions of paragraph (e)(1) of this AD at intervals not to exceed 200 additional hours TIS or 6 months, whichever occurs first.

(3) Do not install a bolt that has accumulated more than 400 hours TIS on any helicopter unless it has passed the required actions of paragraph (e)(1) of this AD.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2013-0009, dated January 11, 2013. You may view the EASA AD on the Internet at http://www.regulations.gov in Docket No. FAA-2013-0943.

(h) Subject

Joint Aircraft Service Component (JASC) Code: 6400, Tail Rotor.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) AgustaWestland Bollettino Tecnico No. 109-135, December 19, 2012.

(ii) AgustaWestland Bollettino Tecnico No. 109EP-125, December 19, 2012.

(iii) AgustaWestland Bollettino Tecnico No. 109K-55, December 19, 2012.

(iv) AgustaWestland Bollettino Tecnico No. 119-052, December 19, 2012.

(3) For AgustaWestland service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on April 18, 2014.
Lance T. Gant,
Acting Directorate Manager, Rotorcraft Directorate, Aircraft Certification Service.

[FR Doc. 2014-09414 Filed 4-30-14; 8:45 am]

BILLING CODE 4910-13-P